DEPARTMENT OF COMMERCE

National Oceanic and Atmospheric Administration

50 CFR Part 622

[Docket No. 150226189-5859-03]

RIN 0648-BE91

Fisheries of the Caribbean, Gulf of Mexico, and South Atlantic; Reef Fish Fishery of the Gulf of Mexico; Red Snapper Management Measures; Correction

AGENCY: National Marine Fisheries Service (NMFS), National Oceanic and Atmospheric Administration (NOAA), Commerce.

ACTION: Final rule; correcting amendment.

SUMMARY: NMFS corrects the final rule that implemented management measures described in a framework action to the Fishery Management Plan for the Reef Fish Resources of the Gulf of Mexico (FMP), which published in the Federal Register on May 1, 2015. The framework final rule published shortly after the final rule for Amendment 40 to the FMP and not all of the regulatory text implemented by the Amendment 40 final rule was incorporated into the final rule for the framework amendment. Specifically, the express references to the red snapper component quotas, annual catch targets (ACTs), and seasons lengths were left out of the final rule for the framework amendment. The purpose of this correcting amendment is to fix the error by reinstating the omitted regulatory text.

DATES: This correction is effective September 28, 2015.

FOR FURTHER INFORMATION CONTACT: Cynthia Meyer, telephone 727-824-5305; email: Cynthia.Meyer@noaa.gov.

SUPPLEMENTARY INFORMATION:

Background

The final rule for Amendment 40 to the FMP published on April 22, 2015 (80 FR 22422), and established two components within the recreational sector for Gulf of Mexico (Gulf) red snapper (a Federal charter vessel/headboat (for-hire) component and a private angling component), allocated the red snapper recreational quota between the components, established recreational component ACTs, established separate seasonal closures for the two components, and established component specific overage adjustments the year following an overage of the total recreational annual catch limit (ACL).

The final rule for the framework amendment published on May 1, 2015, and increased the commercial and recreational quotas for red snapper in the Gulf reef fish fishery for the 2015, 2016, and 2017 fishing years, and subsequent fishing years (80 FR 24832). This rule did not change the structure of the separate components quotas and ACTs that were implemented in the Amendment 40 final rule.

The regulatory text in the Amendment 40 final rule in § 622.41(q)(2)(i) and (ii), that expressly referred to component specific seasons and overage adjustments the year following an overage of the total recreational ACL, was not carried over into the final rule for the framework amendment. This notification corrects § 622.41(q)(2)(i) and (ii) by adding the necessary language from the Amendment 40 final rule back into the regulations.

Correction

As published, the final rule for the framework amendment, published May 1, 2015 (80 FR 24832), did not reflect the regulatory text implemented by the final rule for Amendment 40, published April 22, 2015 (80 FR 22422). Language is added to § 622.41(q)(2)(i) and (ii) to correct that omission.

Classification

The Regional Administrator, Southeast Region, NMFS has determined that this correcting amendment is necessary for the conservation and management of Gulf red snapper and is consistent with Amendment 40, the framework amendment, the FMP, the Magnuson-Stevens Fishery Conservation and Management Act, and other applicable law.

This final rule has been determined to be not significant under Executive Order 12866.

Pursuant to 5 U.S.C. 553(b)(B), the Assistant Administrator for Fisheries, NOAA, finds good cause to waive prior notice and opportunity for additional public comment for this action because it would be unnecessary and contrary to the public interest. Providing prior notice and the opportunity for public comment is unnecessary because the public received notice and an opportunity to comment on the proposed rules for the framework amendment and Amendment 40 and the final rule for Amendment 40 included this regulatory text. This correcting amendment reinstates the regulatory text that was inadvertently omitted from the final rule for the framework action that published on May 1, 2015 (80 FR 24832). If the rule was delayed to allow for prior notice and opportunity for public comment, it would cause confusion because the public believes that the omitted text is already included in the regulations.

For the same reasons, the Assistant Administrator also finds good cause, pursuant to 5 U.S.C. 553(d), to waive the 30-day delay in effective date for this correcting amendment. If the rule was delayed to allow for the 30-day delay in effectiveness, it would continue to cause confusion because the public believes that the omitted text is already included in the regulations.

Because prior notice and opportunity for public comment are not required for this rule by 5 U.S.C. 553, or any other law, the analytical requirements of the Regulatory Flexibility Act, 5 U.S.C. 601 et seq., are inapplicable. Accordingly, no Regulatory Flexibility Analysis is required and none has been prepared.

List of Subjects in 50 CFR Part 622

Commercial, Fisheries, Fishing, Gulf of Mexico, Quotas, Recreational, Red snapper.

Dated: September 21, 2015.
Eileen Sobeck,
Assistant Administrator for Fisheries, National Marine Fisheries Service.

Accordingly, 50 CFR part 622 is corrected by making the following correcting amendments:

PART 622—FISHERIES OF THE CARIBBEAN, GULF OF MEXICO, AND SOUTH ATLANTIC

1. The authority citation for part 622 continues to read as follows:

Authority: 16 U.S.C. 1801 et seq.

2. In § 622.41, paragraphs (q)(2)(i) and (ii) are revised to read as follows:

§ 622.41 Annual catch limits (ACLs), annual catch targets (ACTs), and accountability measures (AMs).

* * * * *

(q) * * *

(2) * * *

(i) The AA will determine the length of the red snapper recreational fishing season, or recreational fishing seasons for the Federal charter vessel/headboat and private angling components, based on when recreational landings are projected to reach the recreational ACT, or respective recreational component ACT specified in paragraph (q)(2)(iii) of this section, and announce the closure date(s) in the Federal Register. These seasons will serve as in-season accountability measures. On and after the effective date of the recreational closure or recreational component closure notifications, the bag and possession limit for red snapper or for the respective component is zero. When the recreational sector or Federal charter vessel/headboat component is closed, this bag and possession limit applies in the Gulf on board a vessel for which a valid Federal charter vessel/headboat permit for Gulf reef fish has been issued, without regard to where such species were harvested, i.e., in state or Federal waters.

(ii) In addition to the measures specified in paragraph (q)(2)(i) of this section, if red snapper recreational landings, as estimated by the SRD, exceed the total recreational quota specified in § 622.39(a)(2)(i)(A), and red snapper are overfished, based on the most recent Status of U.S. Fisheries Report to Congress, the AA will file a notification with the Office of the Federal Register to reduce the total recreational quota by the amount of the quota overage in the prior fishing year, and reduce the applicable recreational component quota(s) specified in § 622.39(a)(2)(i)(B) and (C) and the applicable recreational component ACT(s) specified in paragraph (q)(2)(iii) of this section (based on the buffer between the total recreational ACT and the total recreational quota specified in the FMP), unless NMFS determines based upon the best scientific information available that a greater, lesser, or no overage adjustment is necessary.

* * * * *

[FR Doc. 2015-24577 Filed 9-25-15; 8:45 am]

BILLING CODE 3510-22-P